DEPARTMENT OF TRANSPORTATION

Federal Aviation Administration

Termination of Review of Noise Compatibility Program, Jackson International Airport, Jackson, MS

ACTION: Notice.

SUMMARY: The Federal Aviation Administration (FAA) announces it has terminated its review of the noise compatibility program, at the request of the Jackson Municipal Airport Authority, under the provisions of 49 U.S.C. 47501 et seq., and 14 CFR Part 150.

EFFECTIVE DATE: The effective date of the FAA's determination of its review of the Jackson International Airport noise compatibility program is January 20, 2005.

FOR FURTHER INFORMATION CONTACT: Kristi Ashley, 100 West Cross St., Suite B, Jackson, MS 39208, (601) 664-9891.

SUPPLEMENTARY INFORMATION: On September 21, 2004, the FAA determined that the noise exposure maps submitted by the Jackson Municipal Airport authority were in compliance with applicable requirements, and began its review of the noise compatibility program. On January 14, 2005, the Jackson Municipal Airport Authority requested that the FAA suspend its review and processing of the noise compatibility program for immediate project closure.

Questions may be directed to the individual named above under the heading FOR FURTHER INFORMATION CONTACT.

Issued in FAA Southern Region, Jackson ADO, January 20, 2005.
Rans D. Black,
Manager, Jackson Airports District Office.

[FR Doc. 05-1564 Filed 1-27-05; 8:45 am]

BILLING CODE 4910-13-M